DEPARTMENT OF ENERGY

Federal Energy Regulatory Commission

Combined Notice of Filings #1

Take notice that the Commission received the following exempt wholesale generator filings:

Docket Numbers: EG21-160-000.

Applicants: TG East Wind Project LLC.

Description: Notice of Self-Certification of Exempt Wholesale Generator Status of TG East Wind Project LLC.

Filed Date: 5/24/21.

Accession Number: 20210524-5193.

Comments Due: 5 p.m. ET 6/14/21.

Take notice that the Commission received the following electric rate filings:

Docket Numbers: ER20-2878-012.

Applicants: Pacific Gas and Electric Company.

Description: Compliance filing: Compliance Filing WDT3 interim rates to be effective 6/1/2021.

Filed Date: 5/24/21.

Accession Number: 20210524-5150.

Comments Due: 5 p.m. ET 6/14/21.

Docket Numbers: ER21-625-001.

Applicants: New York Independent System Operator, Inc.

Description: Compliance filing: Compliance notice of effective date—SENY reserve enhancements to be effective 6/8/2021.

Filed Date: 5/25/21.

Accession Number: 20210525-5131.

Comments Due: 5 p.m. ET 6/15/21.

Docket Numbers: ER21-892-001.

Applicants: New York Independent System Operator, Inc.

Description: Compliance filing: Compliance Notice-Effective Date Enhanced Solar Resource Operation to be effective 6/8/2021.

Filed Date: 5/25/21.

Accession Number: 20210525-5146.

Comments Due: 5 p.m. ET 6/15/21.

Docket Numbers: ER21-1198-000.

Applicants: Pay Less Energy LLC.

Description: Report Filing: Refund Report (ER21-1198) to be effective N/A.

Filed Date: 5/24/21.

Accession Number: 20210524-5122.

Comments Due: 5 p.m. ET 6/14/21.

Docket Numbers: ER21-1304-001.

Applicants: California Independent System Operator Corporation.

Description: Compliance filing: 2021-05-25 Reconciliation Filing—Historical Records Update to be effective 2/20/2020.

Filed Date: 5/25/21.

Accession Number: 20210525-5119.

Comments Due: 5 p.m. ET 6/15/21.

Docket Numbers: ER21-1545-001.

Applicants: PJM Interconnection, L.L.C.

Description: Tariff Amendment: Errata to correct metadata in ER21-1545-000, SA No. 5523; Queue No. AE1-162 to be effective 10/29/2019.

Filed Date: 5/24/21.

Accession Number: 20210524-5104.

Comments Due: 5 p.m. ET 6/14/21.

Docket Numbers: ER21-1993-000.

Applicants: Upper Missouri G. & T. Electric Cooperative, Inc.

Description: § 205(d) Rate Filing: Revised Rate Schedules FERC Nos. 1, 5, 7, 8, and 9 to be effective 5/25/2021.

Filed Date: 5/24/21.

Accession Number: 20210524-5171.

Comments Due: 5 p.m. ET 6/14/21.

Docket Numbers: ER21-1994-000.

Applicants: El Paso Electric Company.

Description: § 205(d) Rate Filing: Service Agreement No. 353, LGIA with National Grid Renewables to be effective 4/21/2021.

Filed Date: 5/24/21.

Accession Number: 20210524-5176.

Comments Due: 5 p.m. ET 6/14/21.

Docket Numbers: ER21-1995-000.

Applicants: Salt Creek Solar, LLC.

Description: Request for Temporary Tariff Waiver, et al. of Salt Creek Solar, LLC.

Filed Date: 5/24/21.

Accession Number: 20210524-5205.

Comments Due: 5 p.m. ET 6/7/21.

Docket Numbers: ER21-1996-000.

Applicants: PJM Interconnection, L.L.C.

Description: § 205(d) Rate Filing: Original WMPA, Service Agreement No. 6069; Queue No. AD2-199 to be effective 4/26/2021.

Filed Date: 5/25/21.

Accession Number: 20210525-5075.

Comments Due: 5 p.m. ET 6/15/21.

Docket Numbers: ER21-1997-000.

Applicants: Entergy Arkansas, LLC.

Description: § 205(d) Rate Filing: MSS-4 Replacement Tariff-Waterford 3 Decommissioning to be effective 8/1/2021.

Filed Date: 5/25/21.

Accession Number: 20210525-5082.

Comments Due: 5 p.m. ET 6/15/21.

Docket Numbers: ER21-1998-000.

Applicants: PJM Interconnection, L.L.C.

Description: § 205(d) Rate Filing: Original WMPA, Service Agreement No. 6070; Queue No. AD2-058 to be effective 4/26/2021.

Filed Date: 5/25/21.

Accession Number: 20210525-5096.

Comments Due: 5 p.m. ET 6/15/21.

Docket Numbers: ER21-1999-000.

Applicants: Midcontinent Independent System Operator, Inc.

Description: § 205(d) Rate Filing: 2021-05-25_SA 3568 NIPSCO-NEET Certificate of Concurrence to be effective 4/2/2021.

Filed Date: 5/25/21.

Accession Number: 20210525-5108.

Comments Due: 5 p.m. ET 6/15/21.

Docket Numbers: ER21-2000-000.

Applicants: East Coast Power & Gas of New Jersey, LLC.

Description: Notice of Cancellation of Market-Based Rate Tariff of East Coast Power & Gas of New Jersey, LLC.

Filed Date: 5/25/21.

Accession Number: 20210525-5113.

Comments Due: 5 p.m. ET 6/15/21.

Take notice that the Commission received the following qualifying facility filings:

Docket Numbers: QF21-909-000.

Applicants: Linden Renewable Energy, LLC.

Description: Form 556 of Linden Renewable Energy, LLC.

Filed Date: 5/25/21.

Accession Number: 20210525-5174.

Comments Due: Non-Applicable.

Take notice that the Commission received the following electric reliability filings:

Docket Numbers: RR19-7-002.

Applicants: North American Electric Reliability Corporation.

Description: Compliance Filing of the North American Electric Reliability Corporation In Response To Order On Compliance Filings For The Five-Year Performance Assessment.

Filed Date: 5/19/21.

Accession Number: 20210519-5196.

Comments Due: 5 p.m. ET 6/9/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 25, 2021.
Debbie-Anne A. Reese,
Deputy Secretary.

[FR Doc. 2021-11471 Filed 5-28-21; 8:45 am]

BILLING CODE 6717-01-P